ENVIRONMENTAL PROTECTION AGENCY

[FRL-7090-6]

Request for Nominations to the National Advisory Council for Environmental Policy and Technology, Standing Committee on Compliance Assistance

AGENCY: Environmental Protection Agency (EPA).

ACTION: Notice of request for nominations.

SUMMARY: The Environmental Protection Agency is inviting nominations for membership on its National Advisory Council for Environmental Policy and Technology (NACEPT), Standing Committee on Compliance Assistance. The Agency is seeking qualified senior level decision makers from diverse stakeholder groups throughout the United States to be considered for appointments. The nominee should have an interest and experience in addressing environmental problems through compliance assistance and other alternative approaches such as environmental management systems and pollution prevention. EPA is requesting that each nominee provide a resume or short biography describing his/her educational and professional qualifications, and that contains a current business address and daytime telephone number.

DATES: Nominations will be accepted until close of business on November 26, 2001.

ADDRESSES: Submit nominations and requested documentation to Ms. Joanne Berman, Designated Federal Officer, Office of Enforcement and Compliance Assurance (OECA), U.S. Environmental Protection Agency, MC 2224A, 1200 Pennsylvania Avenue, NW., Washington, DC 20460. You may also E-mail nominations to berman.joanne@epa.gov.

FOR FURTHER INFORMATION CONTACT: Ms. Joanne Berman, Designated Federal Officer, Office of Enforcement and Compliance Assurance (OECA), U.S. Environmental Protection Agency, MC 2224A, 1200 Pennsylvania Avenue NW., Washington, DC 20460. Phone 202/564-7064. E-mail berman.joanne@epa.gov.

SUPPLEMENTARY INFORMATION: NACEPT is a federal advisory committee under the Federal Advisory Committee Act, Public Law 92463. NACEPT provides advice and recommendations to the Administrator and other EPA officials on a broad range of domestic and international environmental policy issues. NACEPT consists of a representative cross-section of EPA's partners and principal constituents who provide advice and recommendations on policy issues and serve as a sounding board for new strategies that the Agency is developing. Maintaining a balance and diversity of experience, knowledge, and judgment is an important consideration in the selection of members. The Standing Committee on Compliance Assistance, a subcommittee of NACEPT, has existed for two years and provides a federal advisory forum from which the Agency can continue to receive valuable multi-stakeholder advise and recommendations on enhancing EPA's compliance assistance program. The Standing Committee on Compliance Assistance assisted EPA in the development of the Agency's National Clearinghouse (www.epa.gov/clearinghouse), the Compliance Assistance Providers Forum, and the EPA Compliance Assistance Activity Plan (http://es.epa.gov/oeca/main/compasst/activityplan.pdf). Most recently, the Standing Committee on Compliance, through NACEPT, provided recommendations focusing on six key areas to improve the Agency's compliance assistance program and emphasizing the point that an effective compliance assistance program will complement EPA's approach to inspections and enforcement. The complete set of recommendations can be located at www.seattle.battelle.org/epa-icaa.

The new Standing Committee on Compliance Assistance will, through NACEPT, assist EPA in: (1) Strengthening the national compliance assistance network by helping identify opportunities to enhance communication among compliance assistance providers and by promoting collaboration in compliance assistance planning and tool development; (2) developing and testing performance measurement systems to demonstrate the effectiveness and environmental outcomes of compliance assistance; (3) acting as a sounding board to provide feedback on compliance assistance policies, strategies or other related matters; and (4) formulating the agenda for the Agency's third annual Compliance Assistance Providers Forum currently scheduled to take place on December 4-6, 2002 in San Antonio, Texas.

We are accepting nominations for approximately 20 members. Representatives must have senior level authority for their respective organization and nominees must demonstrate experience in the following:

—Development of compliance assistance programs and/or the delivery of compliance assistance;

—Application of qualitative and quantitative performance measurement methods; and

—Working collaboratively with stakeholder groups.

Dated: October 17, 2001.
Michael M. Stahl,
Director, Office of Compliance.

[FR Doc. 01-27010 Filed 10-25-01; 8:45 am]

BILLING CODE 6560-50-P